DEPARTMENT OF HEALTH AND HUMAN SERVICES

Performance Review Board Members

AGENCY: Department of Health and Human Services (HHS).

ACTION: Notice.

SUMMARY: The Department of Health and Human Services (HHS) is publishing the names of the Performance Review Board Members (PRB) who are reviewing performance of Senior Executive Service members, Title 42 executives, Senior Level, and Scientific Professional employees for Fiscal Year 2025.

FOR FURTHER INFORMATION CONTACT: Dededrick Rivers, Program Manager, Executive Performance Management, Department of Health and Human Services, 330 C Street SW, Washington, DC 20201, (202) 389-2501.

SUPPLEMENTARY INFORMATION: Title 5, U.S.C. 4314(c)(4) of the Civil Service Reform Act of 1978 (Pub. L. 95-454) requires agencies to publish PRB member appointments in the Federal Register. HHS is appointing the following individuals to a roster for potential service on the Department's Performance Review Boards (PRBs) for calendar years 2025 and 2026.

The PRBs will review individual performance appraisals and organizational assessments for Senior Executive Service, Senior Level/Senior Technical, and Title 42 executive equivalent employees. Based on these reviews, the boards will recommend performance ratings and rating- based compensation to the HHS Secretary.

Last name | First name
ACOSTA | OLGA M.
ADAMS | STEVEN A.
AIYELAWO | PIUS A.
ALLEN | KIMBERLY M.
ALLEN | MICHAEL T.
ALMARAZ | SANTIAGO.
AMES | KAREN W.
AMIOTTE | JOSEPH H.
ANAEDOZIE | ONYEKACHUKWU C.
ANTHONY | ELISE S.
ARAMANDA | ALEXANDER F.
ARCHER | WILLIAM R.
ARCHEVAL | ANTHONY F.
ARMSTRONG | REBEKAH W.
ATENCIO | JILL L.
BABSKI | DIANNE P.
BALLANCE | CHRISTINA V.
BAUGH | CYNTHIA R.
BECKERMAN | PETER C.
BEGAY | DUWAYNE R.
BELL | WILLIAM D.
BENFORD | JOFFREY Q.
BENNETT | JASON E.
BENSON | KARI L.
BERGEVIN | DOUGLAS D.
BHARGAVA | DEEPAK.
BODDEN | CHERYL L.
BOOTH | JON G.
BOTTERILL | JULIE M.
BOULANGER | JENNIFER L.
BOVELL | STEPHANIE M.
BOWERS | TONYA E.
BOYLAN | MICHELLE M.
BRADWAY | COURTNEY B.
BRADY | MICHAEL P.
BRANDT | ERIN E.
BRANDT | KIMBERLY L.
BRATCHER-BOWMAN | NIKKI R.
BRAUER | RANDY S.
BRAXTON | MAKOTO P.
BRILLMAN | DANIEL M.
BROOKS | JOHN H.
BROWN | MARK N.
BRUCE | DUANE N.
BRUCE | MELISSA J.
BUCKHAM | MATTHEW A.
BUCKLEY | VICKI E.
BULLS | MICHELLE P.
BURNS | WILLIAM S.
BURNSZYNSKI | JENNIFER C.
BUSH | LAINA M.
BUSH | MARGARET M.
BUZZELLI | MATTHEW J.
CABEZAS | MIRIAM G.
CANTWELL | KATHLEEN M.
CAPOZZOLA | CHRISTA A.
CARLTON | STEPHANIE J.
CARRION | SONYA M.
CARTER | CATHY T.
CASTAGNA | EVANGELYN L.
CHADWICK-GALLO | CARMELITA S.
CHAMP-GELBMANN | JANE M.
CHAPMAN | LYNDA W.
CHASAN SLOAN | DEBORAH M.
CHEE | DARLENE.
CHERTMAN | WILLY J.
CHESLEY | FRANCIS D.
CHILLAKURU | ANIL K.
CHON | KATHERINE Y.
CHONG | ZABEEN G.
CLASSAY | MICHELLE.
CLIFFORD | CHAD T.
COCHRAN | NORRIS W.
CODERRE | THOMAS R.
COLEMAN | KATHRYN A.
COLLINS | ROBIN R.
COMFORT | KAREN T.
CONROY | GLENDA J.
COOPER | FREDERICK L.
COOPER | RENEE L.
COPPENBARGER | CHRISTOPHER K.
COSTELLO | ANNE M.
COTTON | BEVERLY M.
COX | JORDAN P.
CRANSTON | SEANA C.
CRAVER | JAMES M.
CRAWFORD | GREGORY O.
CROCHUNIS | LEE A.
CRONIN | KELLY.
CUMMISKEY | KEVIN F.
CURTIS | JILLIAN E.
CUTHBERT | NATHANIEL W.
CZAJKOWSKI | JOHN B.
D SOUZA | IVOR L.
DANIELSON | TODD D.
DAVIS | KEVIN E.
DAVIS | NATHANIEL M.
DAY | JAMES.
DE LEON | DIANA F.
DECKER | PAIGE N.
DELONE | SARAH E.
DEMIRSOY | IPEK K.
DEMPSEY | ANTIGONE H.
DESAI | RUJUL H.
DEVOSS | ELIZABETH.
DEVOY | BRIDGET K.
DICKEY | AVIS D.
DILLARD | LISA A.
DISRAELLY | DEENA S.
DOOLEY | SEAN M.
DORAN | SAMUEL E.
DOWNS | TANETTE N.
DRIGGS | SCOTT S.
DRIVING HAWK | JAMES R.
DUPEE | JENNIFER M.
DUPRE | BRIAN A.
DURAN | VANESSA S.
DURST | KELLEY A.
DUVALL | KEVIN M.
ECOFFEY | STACEY.
EDMONDS | AMANDA B.
ELDER | MARK D.
ELLINGTON | RENATA D.
ENGELHARDT | TIMOTHY J.
ENGELS | THOMAS J.
ESPIRITU | RACHELE C.
FABBRICATORE JR | JOHN E.
FAENSON | INNA.
FAHEY | BRIAN M.
FALLAHKHAIR | MICHAEL B.
FIGLIOLA | ANTHONY M.
FINK | DOROTHY A.
FISHMAN | ELIOT Z.
FITZGERALD | DENIS J.
FOGLER | SARAH.
FOSTER | ROBERT F.
FOWLER | LIESL I.
FROHBOESE | ROBINSUE.
FRYE | DANIEL R.
FRYE | EUGENE F.
FULTON | CLAYTON W.
GAIKOWSKI | DIXIE D.
GALLOWAY | SUMMER E.
GARCIA | TAMYRA C.
GARDNER | JOHNATHAN J.
GARRITY | SHEILA R.
GAWALT | ANN G.
GEIGER | REBEKAH E.
GHARPUREY | MADHULIKA M.
GILES | JOHN F.
GOLDHABER | BEN L.
GOODGER | BRIAN K.
GOULDING | MICHAEL I.
GRADISON | ANDREW K.
GRAHAM | GRACE R.
GRECO KONE | REBECCA C.
GREENE | JONATHAN N.
GRIMSLEY | HEATHER S.
HAILSTONE | MITCHELL E.
HALL | RANDALL J.
HAMMARLUND | JOHN T.
HARIDOPOLOS | STEPHANIE E.
HARRIS | SHELLY R.
HAUCK | HEATHER L.
HAYES WALLER | BERNITA K.
HEFFLER | STEPHEN K.
HENDERSON | GRAEME S.
HENDRIKSSON | MARLA.
HILL | KRISTI W.
HOFFMANN | GEORGE C.
HOGLE | MARK P.
HOLZERLAND | WILLIAM H.
HONEY | KRISTEN T.
HOOVER | CAMILLE M.
HORN | DAVID C.
HOWE | RORY C.
HOWE | RYAN P.
HURD | RAYMOND B.
HUTCHINSON | KIM.
HUTTINGER | ALEXANDRA L.
IBARRA PRATT | ELENITA Y.
INMAN | REESE C.
IWUGO | JENEEN M.
JACKSON | SHANNON C.
JOHN | HANOCK P.
JOHN | KURT E.
JOHNSON | ALFRED C.
JOHNSON | DAVID M.
JOHNSON | JENNIFER D.
JOHNSON | JOHN A.
JOHNSON | LENORA E.
JOHNSTON | DARCIE L.
JOYNER | ARLENE R.
KAVANAGH | LAURA D.
KAWAZOE | ROBIN I.
KEANE | THOMAS E.
KECKLER | JUSTIN J.
KENNEDY | ELLIOT J.
KEVENEY | SEAN R.
KIMBLE | ADRIENNE R.
KLEIN | ROGER D.
KLEINSCHMIDT | ARTHUR G.
KLOMP | GERARD R.
KNAPP | CAPRICE A.
KNOX | JOHN K.
KOUFOPOULOS | PETER N.
KOZMA | BETHANY A.
KRAM | ANTHONY S.
KREPICH | CHRISTOPHER M.
KROOP | SETH R.
KROPA | HALLEY E.
LANKFORD | DAVID W.
LAROCHE | DARRELL W.
LATTA | EDWARD T.
LAZARE | MARY M.
LAZIO | JENNIFER L.
LEGIER | JAMIE W.
LEIPHART | KRISTINE L.
LEONARD | CONNIE L.
LIMAGE | JULIA E.
LIN | SUE C.
LIU | BETH C.
LONNERDAL | NILS D.
LOWERY | AMBER E.
MABRY | SHIRLEY M.
MACIAS | DANIEL.
MACRAE | JAMES.
MAJEWSKI | LISA C.
MALONE | KEVIN P.
MANTOAN | PATRICIA M.
MARTIN | CHRISTOPHER E.
MARTINO | NICOLE H.
MATHIS | J INGRID.
MAZANEC | BRIAN M.
MCCOY | QUENTIN T.
MCGILL | BRIAN T.
MCGOWAN | COLLEEN A.
MCQUEEN | SHERRI G.
MEDNICK | DAVID.
MENDOZA | MARTIN.
METER | ERIN M.
METTLER | ERIK P.
MILLER | BEVERLY A.
MILLER | COURTNEY L.
MILLS | GEORGE G.
MIMNAUGH | EMILY C.
MINOR | CLARK D.
MIRANDA | TERESA V.
MITAL | MICHELE.
MONROE | MICHELLE A.
MORRIS | THOMAS F.
MOSHTAHEDIAN | ERICA D.
MUELLER | ERIN O.
MULCAHY | GERARD J.
MURPHY | BRADEN J.
MYERS | ELISABETH C.
NAIR | SUMA.
NELSON | MAY D.
NELSON | PETER J.
NEWBOLD | PATRICK.
NICHOLLS | RICHARD J.
NOELTE | KATE C.
NOOKALA | MADHAVI L.
NOONAN | TIMOTHY R.
NOVY | STEVEN D.
O CONNOR | JUDIT.
O'CONNELL | CHRISTOPHER M.
OELSCHLAEGER | ALLISON M.
OLSON | CAROLYN F.
OLSON | KAREN E.
O'NEILL | MARK P.
OSTERHUES | ERIC J.
OXNER | JULIE A.
PANCHOLI | MAMATHA S.
PAPULA | DENNIS M.
PARISH | ELIZABETH E.
PARKER HALVERSON | PAMELA.
PASCOL | WILLIAM H.
PATTERSON | SARA S.
PERRY | TERRANCE W.
PESTORIUS | FREDERICK P.
PETILLO | JOHN J.
PHILLIPS | RICHARD A.
PIERCE | JULIA A.
PIKA | JOSEPH T.
PLAUGHER | MARK J.
POOLE | CHRISTOPHER A.
POPE | KRISTIN M.
POSNACK | STEVEN.
PRIETO | MOLLY O.
PRIGODICH | CHERYL E.
PROTZEL BERMAN | PAMELA I.
PURDUE | MICHELE L.
RABIN | BRIAN.
RACINE WELLS | LISA A.
RANCOURT | ANNE R.
RATHGEB | COLLEEN C.
REAGAN | MELANIE A.
REDFORD | DANA Y.
RICE | GAREY R.
RITTER | CHRISTINA S.
RIVERA | RODNEY W.
ROBINSON | SHEILA R.
ROBINSON | WILMA M.
ROLFES | ELLEN M.
ROSAS | LUCILA G.
ROWAN | ALEXANDER K.
RUDOLPH | NOEMI V.
RUIZ | MARIA M.
SAMPLES | WILLIAM R.
SANFORD | BARBARA.
SCHARF BELL | HELGA M.
SCOTT | ALICIA R.
SCOTT | JOHN A.
SCOTT | MARIE C.
SHANBHAG | KRISHNAKANT N.
SHAPIRO | JENNIFER R.
SHAPIRO | NEIL K.
SHATTO | JOHN D.
SHIRDON | PATRICK A.
SHUY | CAITRIN M.
SIGOUNAS | GEORGE.
SINGLETON | SHANNON M.
SKILES | DENNIS A.
SMAGH | KALWANT S.
SMITH | BENNY L.
SMITH | JENNIFER B.
SMITH | LAURIE J.
SMITH | MARISA.
SMITH | MICHAEL W.
SMITH | PHILLIP B.
SORIANO | JOHN D.
SPEAR | STEFANIE N.
SPITALNIC | PAUL I.
STANNARD | PAULA M.
STEVENS | MARK D.
SUPPLEE | LAUREN H.
SUTTON | ABRAHAM J.
SUTTON | ERIN E.
SUVA | JERRY F.
SWYGERT | TIFFANY T.
TABE-BEDWARD | HENRIETTA A.
TAGALICOD | ROBERT S.
TAKASH | ANDREA M.
TAMMERO | MICHAEL A.
TARTAKOVSKY | MICHAEL.
TAYLOR | CAROLYN C.
THOMAS | FRED.
THOMAS | TISON V.
THORNBRUGH | MITCHELL L.
TIGNOR | BETH B.
TOMOYASU | NAOMI J.
TOTA | KENNETH T.
TOVEN | JEFFREY P.
TRAUTMAN | TRACEY J.
TRAVERSE | SCOTT B.
TRESS | DEBORAH W.
TRIBBLE SPENCER | KELLY R.
TRITZ | KAREN L.
TURNER | AMY J.
TWOHIE | ANNE-MARIE D.
VAN ABSHER | ELIZABETH S.
VASUDEVAN | SUNIL.
VAYDA | TARA L.
VERBETEN | JOHN E.
VERNO | MARTHA D.
VICENTE | WENDY S.
VITOLO | SARA M.
WAGNER | JOHN E.
WAKEFIELD | MARLENE E.
WALLACE | JULIA J.
WALLACE | MARY H.
WARD LUND | DEBRA L.
WEAHKEE | ROSE L.
WEAVER | BRENT.
WEAVER | GRETCHEN H.
WEIR | SHANA D.
WELLS | NATHAN T.
WENDEL | JENNIFER C.
WHEELAND | DANIEL G.
WILKINS | SHANITA L.
WILLIAMS | JEFFERY.
WILLIAMS | KEVIN D.
WILLIAMS | OLIVIA L.
WILLIAMS | RASHEED D.
WILLIS | NICOLE M.
WITKOFSKY | NINA B.
WORSTELL | MEGAN L.
WRIGHT | DAVID R.
WU | JEFFREY C.
XAVIER | SOOSAI M.
YARBOROUGH | LA MONTE R.
YOUNG | LARRY D.
ZETA | LOWELL M.
ZORN | MATTHEW C.

Charles H. McEnerney III,
Executive Director, Executive Resources (Acting).

[FR Doc. 2025-20731 Filed 11-21-25; 8:45 am]

BILLING CODE 4151-17-P